GENERAL SERVICES ADMINISTRATION

[OMB Control No. 3090-0287; Docket No. 2024-0001; Sequence No. 11]

Information Collection; Background Investigations for Child Care Workers; GSA Form 176

AGENCY: Office of Mission Assurance, General Services Administration (GSA).

ACTION: Notice and request for comments.

SUMMARY: In accordance with the Paperwork Reduction Act of 1995, and the Office of Management and Budget (OMB) regulations, GSA invites the public to comment on a request to review and approve an extension of a previously approved information collection requirement regarding the collection of personal data for background investigations for childcare workers accessing GSA owned and leased controlled facilities.

DATES: Submit comments on or before: September 20, 2024.

ADDRESSES: Submit comments regarding this burden estimate or any other aspect of this collection of information, including suggestions for reducing this burden to http://www.regulations.gov. Submit comments via the Federal eRulemaking portal by searching the OMB control number. Select the link “Submit a Comment” that corresponds with “Information Collection 3090-0287, Background Investigations for Child Care Workers”. Follow the instructions provided at the “Submit a Comment” screen. Please include your name, company name (if any), and “Information Collection 3090-0287, Background Investigations for Child Care Workers” on your attached document.

If your comment cannot be submitted using regulations.gov, call or email the points of contact in the FOR FURTHER INFORMATION CONTACT section of this document for alternate instructions.

Instructions: Please submit comments only and cite Information Collection 3090-0287, Background Investigations for Child Care Workers, in all correspondence related to this collection. Comments received generally will be posted without change to regulations.gov, including any personal and/or business confidential information provided. To confirm receipt of your comment(s), please check regulations.gov approximately two-to-three days after submission to verify posting.

FOR FURTHER INFORMATION CONTACT: Mr. Phil Ahn, Security Officer, Office of Mission Assurance, GSA, 202-219-0273, or via email at phillip.ahn@gsa.gov.

SUPPLEMENTARY INFORMATION:

A. Purpose

Homeland Security Presidential Directive (HSPD) 12 “Policy for a Common Identification Standard for Federal Employees and Contractors” requires the implementation of a governmentwide standard for secure and reliable forms of identification for Federal employees and contractors. OMB's implementing instructions requires all contract employees requiring routine access to federally controlled facilities for greater than six (6) months to receive a background investigation. The minimum background investigation is Tier 1 and the Office of Personnel Management offers a Tier 1C for child care.

However, there is no requirement in the law or HSPD-12 that requires childcare employees to be subject to the Tier 1C since employees of childcare providers are neither government employees nor government contractors. The childcare providers are required to complete the criminal history background checks mandated in the Crime Control Act of 1990, Public Law 101-647, dated November 29, 1990, as amended by Public Law 102-190, dated December 5, 1991. These statutes require that each employee of a childcare center located in a Federal building or in leased space must undergo a background check.

According to GSA policy, childcare workers (as described above) will need to submit the following:

1. An original signed copy of a Basic National Agency Check Criminal History, GSA Form 176; and

2. Two sets of fingerprints on FBI Fingerprint Cards, for SF-87 and/or electronic prints from an enrollment center.

3. Electronically submit the e-qip (SF85) application for completion of the Tier 1C.

This is not a request to collect new information; this is a request to change the form that is currently being used to collect this information.

B. Annual Reporting Burden

Respondents: 1,200.

Responses per Respondent: 1.

Hours per Response: 1.

Total Burden Hours: 1,200.

C. Public Comments

Public comments are particularly invited on: Whether this collection of information is necessary and whether it will have practical utility; whether our estimate of the public burden of this collection of information is accurate and based on valid assumptions and methodology; ways to enhance the quality, utility, and clarity of the information to be collected.

Obtaining Copies of Proposals: Requesters may obtain a copy of the information collection documents from the GSA Regulatory Secretariat Division, by calling 202-501-4755 or emailing GSARegSec@gsa.gov. Please cite Background Investigations for Child Care Workers, in all correspondence.

Lois Mandell,
Director, Regulatory Secretariat Division, General Services Administration.

[FR Doc. 2024-16031 Filed 7-19-24; 8:45 am]

BILLING CODE 6820-23-P